DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on December 5, 2001 in Roseburg, Oregon at the Roseburg Bureau of Land Management Office at 777 NW Garden Valley Blvd. The meeting will begin at 9:00 a.m. and continue until 5 p.m. Agenda items to be covered include: (1) Province Advisory Committee Operating Guidelines; (2) Public Comment; (3) BLM/FS budget overview; and (4) Current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: November 20, 2001.
Michael D. Hupp,
Acting Designated Federal Official.

[FR Doc. 01-29435 Filed 11-26-01; 8:45 am]

BILLING CODE 3410-11-M